ENVIRONMENTAL PROTECTION AGENCY

40 CFR Part 705

[EPA-HQ-OPPT-2020-0549; FRL-7902-03-OCSPP]

RIN 2070-AK67

TSCA Section 8(a)(7) Reporting and Recordkeeping Requirements for Perfluoroalkyl and Polyfluoroalkyl Substances; Extension of Comment Period

AGENCY: Environmental Protection Agency (EPA).

ACTION: Proposed rule; extension of comment period.

SUMMARY: EPA issued a proposed rule in the Federal Register of June 28, 2021, concerning reporting and recordkeeping requirements for Per- and Polyfluoroalkyl Substances (PFAS) under the Toxic Substances Control Act (TSCA). This document extends the comment period for 31 days, from August 27, 2021 to September 27, 2021. An extension of the comment period was requested by some stakeholders to allow interested parties additional time to thoroughly review and analyze the proposed rule's scope and its supporting documents. EPA agrees that a 30-day extension of the comment period is warranted and will respond to comments, including ICR-related comments, in the final rule. Thirty days from August 27, 2021, is September 26, 2021, which is a Sunday; therefore, EPA is extending the comment period to the following Monday, September 27, 2021.

DATES: Comments must be received on or before September 27, 2021.

ADDRESSES: Submit your comments, identified by docket identification (ID) number EPA-HQ-OPPT-2020-0549, using the Federal eRulemaking Portal at http://www.regulations.gov. Follow the online instructions for submitting comments. Do not submit electronically any information you consider to be Confidential Business Information (CBI) or other information whose disclosure is restricted by statute.

Due to the public health concerns related to COVID-19, the EPA Docket Center (EPA/DC) and Reading Room is closed to visitors with limited exceptions. The staff continues to provide remote customer service via email, phone, and webform. For the latest status information on EPA/DC services and docket access, visit https://www.epa.gov/ dockets.

FOR FURTHER INFORMATION CONTACT: For technical information contact: Stephanie Griffin, Data Gathering and Analysis Division, Office of Pollution Prevention and Toxics, Environmental Protection Agency, 1200 Pennsylvania Ave. NW, Washington, DC 20460-0001; telephone number: (202) 564-1463; email address: griffin.stephanie@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the Federal Register document of June 28, 2021 (86 FR 33926) (FRL-10017-78). In that document, EPA proposed a one-time reporting and recordkeeping rule for certain manufacturers (including importers) of PFAS in any year since January 1, 2011. EPA is hereby extending the comment period, which was set to end on August 27, 2021, to September 27, 2021.

If you have questions, consult the technical person listed under FOR FURTHER INFORMATION CONTACT.

List of Subjects in 40 CFR Part 705

Chemicals, Environmental protection, Hazardous Materials, Recordkeeping, and Reporting Requirements.

Dated: July 28, 2021.
Michal Freedhoff,
Assistant Administrator, Office of Chemical Safety and Pollution Prevention.

[FR Doc. 2021-16490 Filed 8-2-21; 8:45 am]

BILLING CODE 6560-50-P